DEPARTMENT OF TRANSPORTATION

Federal Transit Administration

Transfer of Federally Assisted Land or Facility

AGENCY: Federal Transit Administration, DOT.

ACTION: Notice of intent to transfer Federally assisted land or facility.

SUMMARY: Section 5334(h) of the Federal Transit Laws, as codified, 49 U.S.C. 5301, et seq., permits the Administrator of the Federal Transit Administration (FTA) to authorize a recipient of FTA funds to transfer land or a facility to a public body for any public purpose with no further obligation to the Federal Government if, among other things, no Federal agency is interested in acquiring the asset for Federal use. Accordingly, FTA is issuing this Notice to advise Federal Agencies that South Bend Public Transportation (“Transpo”) intends to transfer the Leighton Parking Garage property (the “Facility”) to the City of South Bend, acting by and through its Board of Public Works (the “City”). The Facility is located at 109 West Jefferson Boulevard, South Bend, Indiana. It is in downtown South Bend on a parcel of property bounded by Michigan Street, Jefferson Boulevard, Main Street, and Wayne Street.

The Facility is a parking garage with approximately 215 underground parking spaces and aproximately 429 above-ground parking spaces including all equipment used to control parking.

DATES: Effective Date: Any Federal agency interested in acquiring the Facility must notify the FTA Region V Office of its interest by September 9, 2016.

ADDRESSES: Interested parties should notify the Regional Office by writing to Marisol R. Simón, Regional Administrator, Federal Transit Administration, 200 West Adams, Suite 320, Chicago, IL 60606.

FOR FURTHER INFORMATION CONTACT: Kathryn Loster, Regional Counsel, at 312-353-3869.

SUPPLEMENTARY INFORMATION:

Background

49 U.S.C. Section 5334(h) provides guidance on the transfer of assets no longer needed. Specifically, if a recipient of FTA assistance decides an asset acquired at least in part with federal assistance is no longer needed for the purpose for which it was acquired, the Secretary of Transportation may authorize the recipient to transfer the asset to a local governmental authority to be used for a public purpose with no further obligation to the Government. 49 U.S.C. Section 5334(h)(l).

Determinations

The Secretary may authorize a transfer for a public purpose other than public transportation only if the Secretary decides:

(A) The asset will remain in public use for at least 5 years after the date the asset is transferred;

(B) There is no purpose eligible for assistance under this chapter for which the asset should be used;

(C) The overall benefit of allowing the transfer is greater than the interest of the Government in liquidation and return of the financial interest of the Government in the asset, after considering fair market value and other factors; and

(D) Through an appropriate screening or survey process, that there is no interest in acquiring the asset for Government use if the asset is a facility or land.

Federal Interest in Acquiring Land or Facility

This document implements the requirements of 49 U.S.C. Section 5334(h)(l)(D). Accordingly, FTA hereby provides notice of the availability of the Facility further described below. Any Federal agency interested in acquiring the affected facility should promptly notify the FTA.

If no Federal agency is interested in acquiring the existing Facility, FTA will make certain that the other requirements specified in 49 U.S.C. Section 5334(h)(1)(A) through (C) are met before permitting the asset to be transferred.

The Facility to be transferred is a parking garage with approximately 215 underground and 429 above-ground parking spaces, and includes all equipment used in the control of parking. It was built in 2000. The Facility has six above-ground levels and a basement parking level. It is constructed of precast concrete with a brick and concrete façade. The Facility is situated within a block in downtown South Bend and is connected to two multi-story office buildings and a public plaza. Approximately 11,000 square feet of retail space is located on the ground level of the Facility. However, the multi-story office buildings, retail space, and public plaza are not owned by Transpo, and are not available for acquisition through this notice. The garage facility and connected buildings are commonly known as Leighton Plaza.

If no Federal agency is interested in acquiring the existing Facility, FTA will make certain that the other requirements specified in 49 U.S.C. Section 5334(h)(1)(A) through (C) are met before permitting the asset to be transferred.

Marisol Simón,
Regional Administrator, FTA Region V.

[FR Doc. 2016-18951 Filed 8-9-16; 8:45 am]

BILLING CODE P